DEPARTMENT OF COMMERCE

International Trade Administration

[C-535-904]

Circular Welded Carbon-Quality Steel Pipe From Pakistan: Postponement of Preliminary Determination in Countervailing Duty Investigation

AGENCY: Enforcement and Compliance, International Trade Administration, Department of Commerce.

DATES: Effective Date: January 4, 2016.

FOR FURTHER INFORMATION CONTACT: Kaitlin Wojnar, AD/CVD Operations, Office VII, Enforcement and Compliance, International Trade Administration, U.S. Department of Commerce, 14th Street and Constitution Avenue NW., Washington, DC 20230; telephone: (202) 482-3857.

SUPPLEMENTARY INFORMATION:

Background

On November 17, 2015, the Department of Commerce (the Department) initiated a countervailing duty (CVD) investigation of circular welded carbon-quality steel pipe from Pakistan.¹ Currently, the preliminary determination is due no later than January 21, 2016.

¹ See Circular Welded Carbon-Quality Steel Pipe from Pakistan: Initiation of Countervailing Duty Investigation, 80 FR 73704 (November 25, 2015).

Postponement of the Preliminary Determination

Section 703(b)(1) of the Tariff Act of 1930, as amended (the Act), requires the Department to issue the preliminary determination in a CVD investigation within 65 days of the date on which the Department initiated the investigation. However, in accordance with 19 CFR 351.205(e), if a petitioner makes a timely request for an extension, section 703(c)(1)(A) of the Act allows the Department to postpone the preliminary determination until no later than 130 days after the date on which the Department initiated the investigation. Under 19 CFR 351.205(e), a petitioner must submit a request for postponement 25 days or more before the scheduled date of the preliminary determination and must state the reason for the request. The Department will grant the request unless it finds compelling reasons to deny the request.²

² See 19 CFR 351.205(e).

On December 18, 2015, the petitioners in this investigation, Bull Moose Tube Company, EXLTUBE, Wheatland Tube, and Western Tube & Conduit (collectively, Petitioners) submitted a timely request, pursuant to section 703(c)(l)(A) of the Act and 19 CFR 351.205(e), to postpone the preliminary determination.³

³ See Letter from Petitioners, “Circular Welded Carbon-Quality Steel Pipe from Pakistan: Request to Extend the Preliminary Determination,” December 18, 2015.

The record does not present any compelling reasons to deny Petitioners' request. Therefore, in accordance with section 703(c)(l)(A) of the Act, the Department is hereby postponing the due date for the preliminary determination in this investigation to no later than 130 days after the day on which the investigation was initiated. As a result, the deadline for completion of the preliminary determination is now March 28, 2015.

This notice is issued and published pursuant to section 703(c)(2) of the Act and 19 CFR 351.205(f)(l).

Dated: December 24, 2015.
Paul Piquado,
Assistant Secretary for Enforcement and Compliance.

[FR Doc. 2015-33057 Filed 12-31-15; 8:45 am]

BILLING CODE 3510-DS-P